INTERNATIONAL TRADE COMMISSION

[Investigation Nos. 731-TA-1105-1106 (Review)]

Lemon Juice From Argentina and Mexico

Determination

On the basis of the record ¹ developed in the subject five-year reviews, the United States International Trade Commission (Commission) determines, pursuant to section 751(c) of the Tariff Act of 1930 (19 U.S.C. 1675(c)), that termination of the suspended antidumping duty investigation on lemon juice from Argentina would be likely to lead to continuation or recurrence of material injury to an industry in the United States within a reasonably foreseeable time.² The Commission also determines that termination of the suspended antidumping duty investigation on lemon juice from Mexico would not be likely to lead to continuation or recurrence of material injury to an industry in the United States within a reasonably foreseeable time.

¹ The record is defined in sec. 207.2(f) of the Commission's Rules of Practice and Procedure (19 CFR 207.2(f)).

² Commissioner Daniel R. Pearson made a negative determination with respect to the suspended investigation on lemon juice from Argentina.

Background

The Commission instituted these reviews on August 1, 2012 (77 FR 45653) and determined on November 5, 2012 that it would conduct full reviews (77 FR 67833, November 14, 2012). Notice of the scheduling of the Commission's reviews and of a public hearing to be held in connection therewith was given by posting copies of the notice in the Office of the Secretary, U.S. International Trade Commission, Washington, DC, and by publishing the notice in the Federal Register on December 5, 2012 (77 FR 72384). The hearing was held in Washington, DC, on May 16, 2013, and all persons who requested the opportunity were permitted to appear in person or by counsel.

The Commission completed and filed its determinations in these reviews on July 26, 2013. The views of the Commission are contained in USITC Publication 4418 (July 2013), entitled Lemon Juice from Argentina and Mexico: Investigation Nos. 731-TA-1105-1106 (Review).

By order of the Commission.
Issued: July 26, 2013.
Lisa R. Barton,
Acting Secretary to the Commission.

[FR Doc. 2013-18645 Filed 8-1-13; 8:45 am]

BILLING CODE 7020-02-P